DEPARTMENT OF EDUCATION

RIN 1894-AA01

Race to the Top Fund Phase 3; Correction

AGENCY: Department of Education.

ACTION: Proposed Requirements; Correction.

SUMMARY: On September 12, 2011, the Secretary of Education (Secretary) published a notice in the Federal Register proposing requirements for Phase 3 of the Race to the Top program (RTT-Phase 3 NPR) (76 FR 56183). The RTT-Phase 3 NPR was incomplete and included minor errors. Through this document, we correct the errors and add the information that was unintentionally omitted. Except as corrected by this notice, the RTT-Phase 3 NPR, including the date by which public comments are due, remains unchanged.

FOR FURTHER INFORMATION CONTACT: Meredith Farace, Implementation and Support Unit, 400 Maryland Avenue, SW., Washington, DC 20202-6200. Telephone: (202) 453-6690 or by e-mail: phase3comments@ed.gov.

If you use a telecommunications device for the deaf (TDD) or a text telephone (TTY), call the Federal Relay Service (FRS), toll free, at 1-800-877-8339.

SUPPLEMENTARY INFORMATION: We make the following corrections to the RTT-Phase 3 NPR:

On page 56183, third column, under FOR FURTHER INFORMATION CONTACT, we correct the telephone to read “(202) 453-6690.”

On page 56184, third column, we correct the paragraph that begins with the words “Under the Race to the Top Phase 3 award process proposed in this notice, eligible applicants” by replacing it with the following two paragraphs:

Additionally, the Department will maintain an emphasis in the Race to the Top Phase 3 awards on promoting science, technology, engineering, and mathematics (STEM) education, consistent with the competitive preference priority in the Race to the Top Phase 1 and Phase 2 competitions. In order to meet this requirement, a State will include in its detailed plan and budget for Phase 3 funding how it will allocate a meaningful share of its Phase 3 award to advance STEM education in the State. To do this, eligible applicants will select from among their Phase 2 application: (1) Activities proposed by the State to meet the competitive preference priority; or (2) activities within one or more of the four core education reform areas that are most likely to improve STEM education.

Under the Race to the Top Phase 3 award process proposed in this notice, eligible applicants would be limited to Race to the Top Phase 2 finalists that did not receive a Phase 2 award, and those eligible applicants could apply for a proportional share of these funds. Race to the Top Phase 3 funding is not at the level of funding that was available for the Race to the Top Phase 1 and Phase 2 competitions. Accordingly, we are proposing that eligible applicants (1) Select from among the activities they proposed to implement in their Phase 2 applications those activities that will have the greatest impact on advancing their overall statewide reform plans, including activities that are most likely to improve STEM education, (2) use Race to the Top Phase 3 funding to support those specific activities, and (3) ensure that such activities are consistent with the ARRA requirement to allocate 50 percent of Race to the Top funds to local educational agencies (LEAs).

On page 56185, third column, we correct paragraph (g) to read as follows:

(g) The State will select activities for funding that are consistent with the commitment to comprehensive reform and innovation that the State demonstrated in its Race to the Top Phase 2 application, including activities that are most likely to improve STEM education.

On page 56186, first column, we correct the paragraph following the estimated State budget amounts chart to read as follows:

Once the Department notifies a qualified applicant of the final amount of funds it is eligible to receive for a Race to the Top Phase 3 award, the applicant must submit a detailed plan and budget describing the activities it has selected from its Race to the Top Phase 2 application that it proposes to implement with Race to the Top Phase 3 funding, including how the State will allocate a meaningful share of its Phase 3 award to advance STEM education in the State. This detailed plan must include an explanation of why the applicant has selected these activities and why the applicant believes such activities will have the greatest impact on advancing its overall statewide reform plan. The plan also must include a description of the State's process for allocating at least 50 percent of Race to the Top Phase 3 funds to participating LEAs, as required by section 14006(c) of the ARRA. Subgrants to LEAs must be based on their relative shares of funding under Title I, Part A of the ESEA, and LEAs must use these funds in a manner that is consistent with the State's updated plan and the MOU or other binding agreement between the LEA and the State. A State may establish more specific requirements for LEA use of funds provided they are consistent with the ARRA, with the proposed requirements of this notice, and with the Race to the Top requirements. (See the notice of final priorities, requirements, definitions, and selection criteria for the Race to the Top Fund published in the Federal Register on November 18, 2009 (74 FR 59688).)

Accessible Format: Individuals with disabilities can obtain this document in an accessible format (e.g., braille, large print, audiotape, or computer diskette) on request to the program contact person listed under FOR FURTHER INFORMATION CONTACT.

Electronic Access to This Document: The official version of this document is the document published in the Federal Register. Free Internet access to the official edition of the Federal Register is available via the Federal Digital System at http://www.gpo.gov/fdsys. At this site you can view this document, as well as all other documents of this Department published in the Federal Register, in text or Adobe Portable Document Format (PDF). To use PDF you must have Adobe Acrobat Reader, which is available free at this site.

You may also access documents of the Department published in the Federal Register by using the article search feature at http://www.federalregister.gov. Specifically, through the advanced search feature at this site, you can limit your search to documents published by the Department.

Dated: September 21, 2011.
Arne Duncan,
Secretary of Education.

[FR Doc. 2011-24624 Filed 9-21-11; 4:15 pm]

BILLING CODE 4000-01-P